DEPARTMENT OF COMMERCE

Minority Business Development Agency

[Docket No.: 071121729-7734-01]

Solicitation of Applications for the Native American Business Enterprise Center (NABEC) Program

AGENCY: Minority Business Development Agency, Commerce.

ACTION: Notice.

SUMMARY: In accordance with 15 U.S.C. 1512 and Executive Order 11625, the Minority Business Development Agency (MBDA) is soliciting competitive applications from organizations to operate a Native American Business Enterprise Center (NABEC) in the locations and geographical service areas specified in this notice. The NABEC operates through the use of business consultants and provides a range of business consulting and technical assistance services directly to Native American- and other eligible minority-owned businesses. Responsibility for ensuring that applications in response to this competitive solicitation are complete and received by MBDA on time is the sole responsibility of the applicant. Applications submitted must be to operate a NABEC and to provide business consultation services to eligible clients. Applications that do not meet these requirements will be rejected. This is not a grant program to help start or to further an individual business.

DATES: The closing date for receipt of applications is January 11, 2008 at 5 p.m. Eastern Standard Time (EST). Completed applications must be received by MBDA at the address below for paper submissions or at http://www.Grants.gov for electronic submissions. The due date and time is the same for electronic submissions as it is for paper submissions. The date that applications will be deemed to have been submitted electronically shall be the date and time received at Grants.gov. Applicants should save and print the proof of submission they receive from Grants.gov. Applications received after the closing date and time will not be considered. Anticipated time for processing is seventy-five (75) days from the close of the competition period. MBDA anticipates that awards under this notice will be made with a start date of April 1, 2008.

Pre-Application Conference: In connection with this solicitation, a pre-application teleconference will be held on December 11, 2007 at 1:00 p.m. (EST). Participants must register at least 24 hours in advance of the teleconference and may participate in person or by telephone. Please visit the MBDA Internet Portal at http://www.mbda.gov (MBDA Portal) or contact an MBDA representative listed below for registration instructions.

ADDRESSES: (1a) Paper Submission—If Mailed: If the application is sent by postal mail or overnight delivery service by the applicant or its representative, one (1) signed original plus two (2) copies of the application must be submitted. Completed application packages must be mailed to: Office of Business Development—NABEC Program, Office of Executive Secretariat, HCHB, Room 5063, Minority Business Development Agency, U.S. Department of Commerce, 1401 Constitution Avenue, NW., Washington, DC 20230.

Applicants are advised that MBDA's receipt of mail sent via the United States Postal Service may be substantially delayed or suspended in delivery due to security measures. Applicants may therefore wish to use a guaranteed overnight delivery service. Department of Commerce delivery policies for overnight delivery services require all packages to be sent to the address above.

(1b) Paper Submission—If Hand-Delivered: If the application is hand-delivered by the applicant or by its representative, one (1) signed original plus two (2) copies of the application must be delivered to: U.S. Department of Commerce, Minority Business Development Agency, Office of Business Development—NABEC Program (extension 1940), HCHB—Room 1874, Entrance #10, 15th Street, NW. (between Pennsylvania and Constitution Avenues), Washington, DC. MBDA will not accept applications that are submitted by the deadline, but that are rejected due to the applicant's failure to adhere to Department of Commerce protocol for hand-deliveries.

(2) Electronic Submission: Applicants are encouraged to submit their proposal electronically at http://www.Grants.gov. Electronic submissions should be made in accordance with the instructions available at Grants.gov (see http://www.grants.gov/forapplicants for detailed information). MBDA strongly recommends that applicants not wait until the application deadline date to begin the application process through Grants.gov as, in some cases, the process for completing an online application may require 3-5 working days.

FOR FURTHER INFORMATION CONTACT: For further information or for an application package, please visit MBDA's Minority Business Internet Portal at http://www.mbda.gov. Paper applications may also be obtained by contacting the MBDA Office of Business Development or the MBDA National Enterprise Center (NEC) in the region in which the NABEC will be located (see below Agency Contacts). In addition, Standard Forms (SF) may be obtained by accessing http://www.whitehouse.gov/omb/grants or http://www.grants.gov and Department of Commerce (CD) forms may be accessed at http://www.doc.gov/forms.

Agency Contacts:

1. MBDA Office of Business Development, 1401 Constitution Avenue, NW., Room 5075, Washington, DC 20230. Contact: Efrain Gonzalez, Chief, 202-482-1940.

2. MBDA Chicago National Enterprise Center (CNEC), 55 E. Monroe Street, Suite 2810, Chicago, Illinois 60603. This region covers the states of Illinois, Indiana, Iowa, Michigan, Minnesota, Missouri, Nebraska, Ohio, and Wisconsin. Contact: Eric Dobyne, Regional Director, 312-353-0182.

3. Dallas National Enterprise Center (DNEC), 1100 Commerce Street, Room 726, Dallas, Texas 75242. This region covers the states of Arkansas, Colorado, Louisiana, Montana, New Mexico, North Dakota, Oklahoma, South Dakota, Texas, Utah and Wyoming. Contact: John F. Iglehart, Regional Director, 214-767-8001.

4. San Francisco National Enterprise Center (SFNEC), 221 Main Street, Room 1280, San Francisco, California 94105. This region covers the states of Alaska, America Samoa, Arizona, California, Hawaii, Idaho, Nevada, Oregon and Washington. Contact: Linda M. Marmolejo, Regional Director, 415-744-3001.

SUPPLEMENTARY INFORMATION: Background: The NABEC Program is a key component of MBDA's overall minority business development assistance program and promotes the growth and competitiveness of Native American and eligible minority-owned businesses. NABEC operators leverage project staff and professional consultants to provide a wide range of direct business assistance services to Native American, tribal entities and eligible minority-owned firms. NABEC services include, but are not limited to, initial consultations and assessments, business technical assistance, and access to Federal and non-Federal procurement and financing opportunities.

MBDA currently funds a network of eight NABEC projects located throughout the United States. Pursuant to this notice, competitive applications for new three-year awards are being solicited for the five NABEC projects set forth below. MBDA intends to hold a separate award competition during FY 2008 for the remaining three NABEC projects, due to their current award cycles which end on July 31, 2008 or August 31, 2008.

Geographical Service Areas: MBDA is soliciting competitive applications from organizations to operate a NABEC and to provide services in the following geographical service areas:

NABEC name | Geographical service area
Arizona NABEC | State of Arizona.
California NABEC | State of California.
Minnesota/Iowa NABEC | States of Minnesota & Iowa.
North/South Dakota NABEC | States of North Dakota & South Dakota.
Northwest NABEC | States of Washington, Oregon & Idaho.

The NABEC project must be physically located within the applicable geographical service area.

Electronic Access: A link to the full text of the Announcement of Federal Funding Opportunity (FFO) for this solicitation may be accessed at: http://www.Grants.gov, http://www.mbda.gov, or by contacting the appropriate MBDA representative identified above. The FFO contains a full and complete description of the requirements under the NABEC Program. In order to receive proper consideration, applicants must comply with all information and requirements contained in the FFO. Applicants will be able to access, download and submit electronic grant applications for the NABEC Program through http://www.Grants.gov. MBDA strongly recommends that applicants not wait until the application deadline date to begin the application process through Grants.gov as in some cases the process for completing an online application may require additional time (e.g., 3-5 working days). The date that applications will be deemed to have been submitted electronically shall be the date and time received at Grants.gov. Applicants should save and print the proof of submission they receive from Grants.gov. Applications received after the closing date and time will not be considered.

Funding Priorities: Preference may be given during the selection process to applications which address the following MBDA funding priorities:

(a) Proposals that include performance goals that exceed by 10% or more the minimum performance goal requirements in the FFO;

(b) Applicants who demonstrate an exceptional ability to identify and work towards the elimination of barriers which limit the access of minority businesses to markets and capital;

(c) Applicants who demonstrate an exceptional ability to identify and work with Native American firms, tribal entities or minority firms seeking to obtain large-scale contracts and/or insertion into supply chains with institutional customers;

(d) Proposals that utilize fee for service models and those that use innovative approaches to charging and collecting fees from clients;

(e) Proposals that take a regional approach in providing services to eligible clients; or

(f) Proposals from applicants with pre-existing or established operations in the identified geographic service area(s).

Funding Availability: MBDA anticipates that a total of approximately $1,116,500 will be available in each of FYs 2008 through 2010 to fund financial assistance awards for the five NABEC projects referenced in this competitive solicitation. The total award period for awards made under this competitive solicitation is anticipated to be three years and all awards are expected to be made with a start date of April 1, 2008. The anticipated amount of the financial assistance award for each NABEC project (including the minimum 10% non-federal cost share) is as follows:

Project name | April 1, 2008 through March 31, 2009: Total Cost ($) | April 1, 2008 through March 31, 2009: Federal share ($) | April 1, 2008 through March 31, 2009: Non-federal share ($) (10% min.) | April 1, 2009 through March 31, 2010: Total cost ($) | April 1, 2009 through March 31, 2010: Federal share ($) | April 1, 2009 through March 31, 2010: Non-federal share ($) (10% min.) | April 1, 2010 through March 31, 2011: Total cost ($) | April 1, 2010 through March 31, 2011: Federal share ($) | April 1, 2010 through March 31, 2011: Non-federal share ($) (10% min.)
(1) Arizona NABEC | $225,500 | $203,000 | $22,500 | $225,500 | $203,000 | $22,500 | $225,500 | $203,000 | $22,500
(2) California NABEC | 330,500 | 297,500 | 33,000 | 330,500 | 297,500 | 33,000 | 330,500 | 297,500 | 33,000
(3) Minnesota/Iowa NABEC | 222,300 | 200,000 | 22,300 | 222,300 | 200,000 | 22,300 | 222,300 | 200,000 | 22,300
(4)North/South Dakota NABEC | 225,500 | 203,000 | 22,500 | 225,500 | 203,000 | 22,500 | 225,500 | 203,000 | 22,500
(5) Northwest NABEC | 236,700 | 213,000 | 23,700 | 236,700 | 213,000 | 23,700 | 236,700 | 213,000 | 23,700

Applicants must submit project plans and budgets for each of the three (3) program years. Projects will be funded for no more than one year at a time. Project proposals accepted for funding will not compete for funding in subsequent budget periods within the approved award period. However, operators that fail to achieve a “satisfactory” or better performance rating for the preceding program year may be denied second- or third-year funding (as the case may be). Recommendations for second- and third-year funding are generally evaluated by MBDA based on a mid-year performance rating and/or combination of mid-year and cumulative third quarter performance (e.g., April 1-January 31) performance rating. In making such funding recommendations, MBDA and the Department of Commerce will consider the facts and circumstances of each case, such as but not limited to market conditions, most recent performance of the operator and other mitigating circumstances.

Applicants are hereby given notice that FY 2008 funds have not yet been appropriated for the NABEC program. Accordingly, MBDA issues this notice subject to the appropriations made available under the current continuing resolution, H.J. Res. 52, “Making continuing appropriations for the fiscal year 2008, and for other purposes,” Public Law 110-92, as amended by H.R. 3222, Public Law 110-116. In no event will MBDA or the Department of Commerce be responsible for proposal preparation costs if this program fails to receive funding or is cancelled because of other MBDA or Department of Commerce priorities.

Authority: 15 U.S.C. Section 1512 and Executive Order 11625.

Catalog of Federal Domestic Assistance (CFDA): 11.801, Native American Business Enterprise Centers.

Eligibility: For-profit entities (including but not limited to sole-proprietorships, partnerships, and corporations), non-profit organizations, state and local government entities, American Indian Tribes, and educational institutions are eligible to operate a NABEC.

Program Description: MBDA is soliciting competitive applications from organizations to operate Native American Business Enterprise Centers (NABEC) (formerly known as Native American Business Development Centers). The NABEC will operate through the use of trained professional business consultants who will assist Native American and other minority entrepreneurs and tribal entities through direct client engagements. Entrepreneurs eligible for assistance under the NABEC Program are Native Americans (including Alaska Natives, Alaska Native Corporations and tribal entities), Eskimos, African Americans, Puerto Ricans, Spanish-speaking Americans, Aleuts, Asian Pacific Americans, Asian Indians and Hasidic Jews. References throughout this notice regarding a NABEC's provision of services and assistance to Native American clients also includes the eligible non-Native American clients listed in the preceding sentence. No service may be denied to any member of the eligible groups listed above.

The NABEC Program generally requires project staff to provide standardized business assistance services directly to eligible Native American clients, with an emphasis on those firms with $500,000 or more in annual revenues and/or those eligible firms with “rapid growth potential” (“Strategic Growth Initiative” or “SGI” firms); to develop and maintain a network of strategic partnerships; to provide collaborative consulting services with MBDA and other MBDA funded programs and strategic partners; and to provide referral services (as necessary) for client transactions. NABEC operators will assist Native American clients in accessing federal and non-federal contracting and financing opportunities that result in demonstrable client outcomes. Specific work requirements and performance metrics are used by MBDA to evaluate each project and are a key component of the NABEC program.

The NABEC Program also incorporates an entrepreneurial approach to building market stability and improving quality of services delivered. This strategy expands the reach of the NABECs by requiring project operators to develop and build upon strategic alliances with public and private sector partners, as a means of serving Native American and minority-owned firms within each NABEC's geographical service area. The NABEC Program is also designed to leverage MBDA resources including but not limited to: MBDA Office of Native American Business Development; MBDA Office of Business Development; MBDA National Enterprise Centers; MBDA Business Internet Portal; and MBDA's network of Minority Business Opportunity Centers (MBOCs), Minority Business Enterprise Centers (MBECs), and other NABECs. NABEC operators are required to attend a variety of MBDA training programs designed to increase operational efficiencies and the provision of value-added client services.

NABEC operators are generally required to provide the following four client services: (1) Client Assessment—this is a standardized service activity that includes identifying the client's immediate and long-term needs and establishes a projected growth track; (2) Strategic Business Consulting—this involves providing intensive business consulting services that can be delivered as personalized consulting or group consulting; (3) Access to Capital—this assistance is designed to secure the financial capital necessary for client growth, and (4) Access to Markets—this involves assisting clients to identify and access opportunities for increased sales and revenues.

Please refer to the FFO pertaining to this competitive solicitation for a full and complete description of the application and programmatic requirements under the NABEC Program.

Match Requirements: The NABEC Program requires a minimum non-federal cost share of 10%, which must be reflected in the proposed project budget. Non-federal cost share is the portion of the project cost not borne by the Federal Government. Applicants must satisfy the non-federal cost sharing requirements in one or more of the following four means or any combination thereof: (1) Client fees; (2) applicant cash contributions; (3) applicant in-kind (i.e., non-cash) contributions; or (4) third-party in-kind contributions. The NABEC may but is not required to charge client fees for services rendered, although MBDA encourages the applicant to implement a fee-for-service program. Client fees (if imposed) must be used towards meeting non-federal cost share requirements and must be used in furtherance of the program objectives. Applicants will be awarded up to five bonus points to the extent that the proposed project budget includes a non-federal cost share contribution, measured as a percentage of the overall project budget, exceeding 10% (see Evaluation Criterion below).

Evaluation Criterion: Proposals will be evaluated and applicants will be selected based on the below evaluation criterion. The maximum total number of points that an application may receive is 105, including the bonus points for exceeding the minimum required non-federal cost sharing, except when oral presentations are made by applicants. If oral presentations are made (see below: Oral Presentation—Optional), the maximum total of points that can be earned is 115. The number of points assigned to each evaluation criterion will be determined on a competitive basis by the MBDA review panel based on the quality of the application with respect to each evaluation criterion.

1. Applicant Capability (40 points)

Proposals will be evaluated with respect to the applicant's experience and expertise in providing the work requirements listed. Specifically, proposals will be evaluated as follows:

(a) Community—Experience in and knowledge of the Native American community, Native American tribal entities and minority business sector, and strategies for enhancing its growth and expansion; particular emphasis shall be on expanding SGI firms and tribal entities. Consideration will be given as to whether the applicant has a physical presence in the geographic service area at the time of its application (4 points);

(b) Business Consulting—Experience in and knowledge of business consulting with respect to Native American and minority firms and tribal entities, with emphasis on SGI firms in the geographic service area (5 points);

(c) Financing—Experience in and knowledge of the preparation and formulation of successful financial transactions, with an emphasis on the geographic service area (5 points);

(d) Procurements and Contracting—Experience in and knowledge of the public and private sector contracting opportunities for Native American entities and minority businesses, as well as demonstrated expertise in assisting clients into supply chains (5 points);

(e) Financing Networks—Resources and professional relationships within the corporate, banking and investment community that may be beneficial to Native American entities and minority-owned firms (5 points);

(f) Establishment of a Self-Sustainable Service Model—Summary plan to establish a self-sustainable model for continued services to the Native American and MBE communities beyond the three-year MBDA award period (3 points);

(g) MBE Advocacy—Experience and expertise in advocating on behalf of Native American communities, Native American tribal entities and minority businesses, both as to specific transactions in which a minority business seeks to engage and as to broad market advocacy for the benefit of the minority community at large (3 points); and

(h) Key Staff—Assessment of the qualifications, experience and proposed role of staff that will operate the NABEC. In particular, an assessment will be made to determine whether proposed key staff possesses the expertise in utilizing information systems and the ability to successfully deliver program services. At a minimum the applicant must identify a proposed project director (10 points).

2. Resources (20 points)

The applicant's proposal will be evaluated as followed:

(a) Resources—Resources (not included as part of the non-federal cost share) that will be used in implementing the program, including but not limited to existing prior and/or current data lists that will serve in fostering immediate success for the NABEC (8 points);

(b) Location—Assessment of the applicant's strategic rationale for the proposed physical location of the NABEC. Applicant is encouraged to establish a location for the NABEC that is in a building which is separate and apart from any of the applicant's existing offices in the geographic service area (2 points);

(c) Partners—How the applicant plans to establish and maintain the network of strategic partners and the manner in which these partners will support the NABEC in meeting program performance goals (5 points); and

(d) Equipment—How the applicant plans to satisfy the NABEC information technology requirements, including computer hardware, software requirements and network map (5 points).

3. Techniques and Methodologies (20 points)

The applicant's proposal will be evaluated as follows:

(a) Performance Measures—For each program year, the manner in which the applicant relates each performance measure to the financial information and market resources available in the geographic service area (including existing client list); how the applicant will create NABEC brand recognition (marketing plan); and how the applicant will satisfy program performance goals. In particular, emphasis may be placed on the manner in which the applicant matches NABEC performance goals with client service hours and how it accounts for existing market conditions in its strategy to achieve such goals (10 points);

(b) Start-up Phase—How the applicant will commence NABEC operations within the initial 30-day period. The NABEC shall have thirty (30) days to become fully operational after an award is made (3 points); and

(c) Work Requirement Execution Plan—The applicant will be evaluated on how effectively and efficiently staff time will be used to achieve the work requirements, particularly with respect to periods beyond the start-up phase (7 points).

4. Proposed Budget and Budget Narrative (20 points)

The applicant's proposal will be evaluated as follows:

(a) Reasonableness, Allowability and Allocability of Proposed Program Costs. All of the proposed program costs expenditures should be discussed and the budget line-item narrative must match the proposed budget. Fringe benefits and other percentage item calculations should match the proposed budget line-item and narrative (5 points);

(b) Non-Federal Cost Share. The required 10% non-Federal share must be adequately addressed and properly documented, including but not limited to how client fees (if proposed) will be used by the applicant in meeting the non-federal cost-share (5 points); and

(c) Performance-Based Budgeting. The extent to which the line-item budget and budget narrative relate to the accomplishment of the NABEC work requirements and performance measures (i.e., performance-based budgeting) (10 points).

Bonus for Non-Federal Cost Sharing (maximum of 5 points): Proposals with non-federal cost sharing exceeding 10% of the total project costs will be awarded bonus points on the following scale: more than 10%-less than 15% = 1 point; 15% or more-less than 20% = 2 points; 20% or more-less than 25% = 3 points; 25% or more-less than 30% = 4 points; and 30% or more = 5 points. Non-federal cost sharing of at least 10% is required under the NABEC Program. Non-federal cost sharing is the portion of the total project cost not borne by the Federal Government and may be met by the applicant in any one or more of the following four means (or a combination thereof): (1) Client fees (encouraged but not mandatory); (2) cash contributions; (3) non-cash applicant contributions; or (4) third party in-kind contributions.

5. Oral Presentation—Optional (10 points)

Oral presentations are optional and held only when requested by MBDA. This action may be initiated for the top two (2) ranked applications for each project and will be applied on a consistent basis for each project competition. Oral presentations will be used to establish a final evaluation and ranking.

The applicant's presentation will be evaluated as to the extent to which the presentation demonstrates:

(a) How the applicant will effectively and efficiently assist MBDA in the accomplishment of its mission (2 points);

(b) Business operating priorities designed to manage a successful NABEC (2 points);

(c) A management philosophy that achieves an effective balance between micromanagement and complete autonomy for its Project Director (2 points);

(d) Robust search criteria for the identification of a Project Director (1 point);

(e) Effective employee recruitment and retention policies and procedures (1 point); and

(f) A competitive and innovative approach to exceeding performance requirements (2 points).

Review and Selection Process:

1. Initial Screening

Prior to the formal paneling process, each application will receive an initial screening to ensure that all required forms, signatures and documentation are present. An application will be considered non-responsive and will not be evaluated by the review panel if it is received after the closing date for receipt of applications, the applicant fails to submit an original, signed Form SF-424 by the application closing date (paper applications only), or the application does not provide for the operation of a NABEC. Other application deficiencies may be accounted for through point deductions during panel review.

2. Panel Review

Each application will receive an independent, objective review by a panel qualified to evaluate the applications submitted. The review panel will consist of at least 3 persons, all of whom will be full-time federal employees and at least one of whom will be an MBDA employee, who will review the applications for a specified project based on the above evaluation criterion. Each reviewer shall evaluate and provide a score for each proposal. Each project review panel (through the panel Chairperson) shall provide the MBDA National Director (Recommending Official) with a ranking of the applications based on the average of the reviewers' scores and shall also provide a recommendation regarding funding of the highest scoring application.

3. Oral Presentation—Upon MBDA Request

MBDA may invite the two (2) top-ranked applicants for each project competition to develop and provide an oral presentation. If an oral presentation is requested, the affected applicants will receive a formal communication (via standard mail, e-mail or fax) from MBDA indicating the time and date for the presentation. In-person presentations are not mandatory but are encouraged; telephonic presentations are acceptable. Applicants will be asked to submit a PowerPoint presentation (or equivalent) to MBDA that addresses the oral presentation criteria set forth above. The presentation must be submitted at least 24 hours before the scheduled date and time of the presentation. The presentation will be made to the MBDA National Director (or his/her designee) and up to three senior MBDA staff who did not serve on the original review panel. The oral panel members may ask follow-up questions after the presentation. MBDA will provide the teleconference dial-in number and pass code. Each applicant will present to MBDA staff only; competitors are not permitted to listen (and/or watch) other presentations.

All costs pertaining to this presentation shall be borne by the applicant. NABEC award funds may not be used as a reimbursement for this presentation. MBDA will not accept any requests or petitions for reimbursement.

The oral panel members shall score each presentation in accordance with the oral presentation criterion provided above. An average score shall be compiled and added to the score of the original panel review.

4. Final Recommendation

The MBDA National Director makes the final recommendation to the Grants Officer regarding the funding of applications under this competitive solicitation. MBDA expects to recommend for funding the highest ranking application for each project, as evaluated and recommended by the review panel and taking into account oral presentations (as applicable). However, the MBDA National Director may not make any selection, or he may select an application out of rank order for the following reasons:

(a) A determination that an application better addresses one or more of the funding priorities for this competition. The National Director (or his/her designee) reserves the right to conduct one or more site visits (subject to the availability of funding), in order to make a better assessment of an applicant's capability to achieve the funding priorities; or

(b) The availability of MBDA funding.

Prior to making a final recommendation to the Grants Officer, MBDA may request that the apparent winner of the competition provide written clarifications (as necessary) regarding its application.

Intergovernmental Review: Applications under this program are not subject to Executive Order 12372, “Intergovernmental Review of Federal Programs.”

Limitation of Liability: In no event will MBDA or the Department of Commerce be responsible for proposal preparation costs if this program fails to receive funding or is cancelled because of other MBDA or Department of Commerce priorities. All funding periods are subject to the availability of funds to support the continuation of the project and the Department of Commerce and MBDA priorities. Publication of this notice does not obligate the Department of Commerce or MBDA to award any specific cooperative agreement or to obligate all or any part of available funds.

Universal Identifier: Applicants should be aware that they will be required to provide a Dun and Bradstreet Data Universal Numbering System (DUNS) number during the application process. See the June 27, 2003 Federal Register notice (68 FR 38402) for additional information. Organizations can receive a DUNS number at no cost by calling the dedicated toll-free DUNS Number request line at 1-866-705-5711 or by accessing the Grants.gov Web site at http://www.Grants.gov.

Department of Commerce Pre-Award Notification Requirements for Grants and Cooperative Agreements: The Department of Commerce Pre-Award Notification Requirements for Grants and Cooperative Agreements contained in the Federal Register notice of December 30, 2004 (69 FR 78389) are applicable to this solicitation.

Paperwork Reduction Act: This document contains collection-of-information requirements subject to the Paperwork Reduction Act (PRA). The use of Standard Forms 424, 424A, 424B, SF-LLL, and CD-346 have been approved by OMB under the respective control numbers 0348-0043, 0348-0044, 0348-0040, 0348-0046, and 0605-0001. Notwithstanding any other provisions of law, no person is required to respond to, nor shall any person be subject to a penalty for failure to comply with a collection of information subject to the Paperwork Reduction Act unless that collection displays a currently valid OMB Control Number.

Executive Order 12866: This notice has been determined to be not significant for purposes of E.O. 12866.

Administrative Procedure Act/ Regulatory Flexibility Act: Prior notice and an opportunity for public comment are not required by the Administrative Procedure Act for rules concerning public property, loans, grants, benefits, or contracts (5 U.S.C. 533(a)(2)). Because notice and opportunity for comment are not required pursuant to 5 U.S.C. 533 or any other law, the analytical requirements of the Regulatory Flexibility Act (5 U.S.C. 601 et seq.) are inapplicable. Therefore, a regulatory flexibility analysis is not required and has not been prepared.

Dated: November 21, 2007.
Ronald N. Langston,
National Director, Minority Business Development Agency.

[FR Doc. E7-23128 Filed 11-27-07; 8:45 am]

BILLING CODE 3510-21-P